DEPARTMENT OF ENERGY

Federal Energy Regulatory Commission

Combined Notice of Filings #1

February 6, 2006.

Take notice that the Commission received the following electric rate filings.

Docket Numbers: ER05-977-000.

Applicants: Union Power Partners, LP.

Description: Union Power Partners, LP and Entergy Services, Inc on behalf of the Entergy Operating Companies submit the Partial Settlement Agreement resolving all issues for the period of May 18, 2005 thru October 31, 2005.

Filed Date: January 30, 2006.

Accession Number: 20060131-0107.

Comment Date: 5 p.m. Eastern Time on Tuesday, February 21, 2006.

Docket Numbers: ER06-431-001.

Applicants: Progress Energy Services Company, LLC.

Description: Florida Power Corp dba Progress Energy Florida, Inc amends Exhibit A to reflect the retirement of delivery points re its December 29, 2005 filing of a Contract for Interchange Service with Reedy Creek Improvement District.

Filed Date: January 30, 2006.

Accession Number: 20060202-0112.

Comment Date: 5 p.m. Eastern Time on Tuesday, February 21, 2006.

Docket Numbers: ER06-519-000.

Applicants: Louisville Gas & Electric Company, Kentucky Utilities Co.

Description: Louisville Gas & Electric Co et al submit an agreement with East Kentucky Power Cooperative.

Filed Date: January 20, 2006.

Accession Number: 20060124-0074.

Comment Date: 5 p.m. Eastern Time on Friday, February 10, 2006.

Docket Numbers: ER06-553-000.

Applicants: American Electric Power Service Corporation.

Description: American Electric Power Service Corp submits the cover page showing the designation service agreement numbers, issued and effective dates to be added to their December 1, 2005 filing of a Letter Agreement with Cinergy Services, Inc.

Filed Date: January 30, 2006.

Accession Number: 20060131-0106.

Comment Date: 5 p.m. Eastern Time on Tuesday, February 21, 2006.

Docket Numbers: ER06-556-001.

Applicants: New England Power Company.

Description: New England Power Co resubmits their Fifth Revised Service Agreement No. 20 to correct errors.

Filed Date: January 30, 2006.

Accession Number: 20060203-0466.

Comment Date: 5 p.m. Eastern Time on Tuesday, February 21, 2006.

Docket Numbers: ER06-561-000.

Applicants: Southern Company Services, Inc.

Description: Southern Company Services, Inc, on behalf of Southern Companies, submit a Service Agreement for Network Integration Transmission Service with Georgia Transmission Corp.

Filed Date: January 30, 2006.

Accession Number: 20060201-0148.

Comment Date: 5 p.m. Eastern Time on Tuesday, February 21, 2006.

Docket Numbers: ER06-562-000.

Applicants: Georgia Power Company.

Description: Southern Company Services, Inc agent for Georgia Power Co submit the Integrated Transmission System Investment Responsibility Reconciliation Agreement with Georgia Transmission Corp.

Filed Date: January 30, 2006.

Accession Number: 20060201-0149.

Comment Date: 5 p.m. Eastern Time on Tuesday, February 21, 2006.

Docket Numbers: ER06-563-000.

Applicants: Select Energy, Inc. et al.

Description: Northeast Utilities Service Co et al submit a Notice of Cancellation of NU Operating Companies Rate Schedule No. 20, reflecting the cessation of service by Select etc.

Filed Date: January 30, 2006.

Accession Number: 20060202-0007.

Comment Date: 5 p.m. Eastern Time on Tuesday, February 21, 2006.

Docket Numbers: ER06-564-000.

Applicants: American Electric Power Service Corporation.

Description: American Electric Power Service Corp as designated agent for AEP Operating Companies submit Service Agreement for Interconnection and Local Delivery with the Village of Shiloh, Ohio.

Filed Date: January 30, 2006.

Accession Number: 20060202-0008.

Comment Date: 5 p.m. Eastern Time on Tuesday, February 21, 2006.

Docket Numbers: ER06-565-000.

Applicants: American Electric Power Service Corporation.

Description: American Electric Power Service Corp as designated agency for AEP Operating Companies submit Service Agreement for Interconnection and Local Delivery with the Village of Bloomdale, Ohio.

Filed Date: January 30, 2006.

Accession Number: 20060202-0009.

Comment Date: 5 p.m. Eastern Time on Tuesday, February 21, 2006.

Docket Numbers: ER06-566-000.

Applicants: American Electric Power Service Corporation.

Description: American Electric Power Service Corp as designated agent for AEP Operating Companies submit interconnection & local delivery service agreement with the Village of Carey, Ohio.

Filed Date: January 30, 2006.

Accession Number: 20060202-0011.

Comment Date: 5 p.m. Eastern Time on Tuesday, February 21, 2006.

Docket Numbers: ER06-567-000.

Applicants: American Electric Power Service Corporation.

Description: American Electric Power Service Corp as designated agent for AEP Operating Companies submit interconnection & local delivery service agreement with the City of Clyde, Ohio.

Filed Date: January 30, 2006.

Accession Number: 20060202-0010.

Comment Date: 5 p.m. Eastern Time on Tuesday, February 21, 2006.

Docket Numbers: ER06-568-000.

Applicants: American Electric Power Service Corporation.

Description: The American Electric Power Service Corp as designated agent for AEP Operating Companies submit Service Agreement for Interconnection and Local Delivery with the Village of Deshler, OH.

Filed Date: January 30, 2006.

Accession Number: 20060201-0145.

Comment Date: 5 p.m. Eastern Time on Tuesday, February 21, 2006.

Docket Numbers: ER06-569-000.

Applicants: American Electric Power Service Corporation.

Description: American Electric Power Service Corp as designated agent for AEP Operating Companies submit an interconnection and local delivery service agreement with the Village of Greenwich, Ohio.

Filed Date: January 30, 2006.

Accession Number: 20060201-0116.

Comment Date: 5 p.m. Eastern Time on Tuesday, February 21, 2006.

Docket Numbers: ER06-570-000.

Applicants: American Electric Power Service Corporation.

Description: American Electric Power Service Corp as designated agent for AEP Operating Companies submit an interconnection & local delivery service agreement with the Village of Plymouth, OH.

Filed Date: January 30, 2006.

Accession Number: 20060201-0146.

Comment Date: 5 p.m. Eastern Time on Tuesday, February 21, 2006.

Docket Numbers: ER06-571-000.

Applicants: American Electric Power Service Corporation.

Description: American Electric Power Service Corp as designated agent for AEP Operating Companies submit an interconnection and local delivery service agreement with the Village of Wharton, OH.

Filed Date: January 30, 2006.

Accession Number: 20060201-0115.

Comment Date: 5 p.m. Eastern Time on Tuesday, February 21, 2006.

Docket Numbers: ER06-572-000.

Applicants: Florida Power Corporation.

Description: Florida Power Corporation submits Amendment No. 1 to the Osceola Facility Parallel Operating Agreement with Seminole Electric Cooperative, Inc.

Filed Date: January 30, 2006.

Accession Number: 20060201-0114.

Comment Date: 5 p.m. Eastern Time on Tuesday, February 21, 2006.

Docket Numbers: ER06-573-000.

Applicants: Public Service Company of New Mexico.

Description: Public Service Co of New Mexico submits two executed agreements with Texas-New Mexico Power Co under PNM Resources Operating Companies OATT.

Filed Date: January 30, 2006.

Accession Number: 20060201-0113.

Comment Date: 5 p.m. Eastern Time on Tuesday, February 21, 2006.

Docket Numbers: ER06-574-000.

Applicants: Public Service Company of New Mexico.

Description: Public Service Co of New Mexico submits an executed Service Agreement b/w PNM Transmission Development and Contracts and PNM Wholesale Marketing.

Filed Date: January 30, 2006.

Accession Number: 20060201-0118.

Comment Date: 5 p.m. Eastern Time on Tuesday, February 21, 2006.

Docket Numbers: ER06-575-000.

Applicants: Southern California Edison Company.

Description: Southern California Edison Co submits its annual update filing of the Transmission Access Charge Balancing Account Adjustment.

Filed Date: January 30, 2006.

Accession Number: 20060202-0042.

Comment Date: 5 p.m. Eastern Time on Tuesday, February 21, 2006.

Docket Numbers: ER06-576-000.

Applicants: Southern Company Services, Inc.

Description: Southern Company Services Inc agent for Alabama Power Co et al submit an Agreement for Network Integration Transmission Service & Network Operating Agreement with Alabama Municipal Electric Authority.

Filed Date: January 30, 2006.

Accession Number: 20060201-0117.

Comment Date: 5 p.m. Eastern Time on Tuesday, February 21, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-1929 Filed 2-10-06; 8:45 am]

BILLING CODE 6717-01-P